DEPARTMENT OF TRANSPORTATION

Federal Railroad Administration

Tier 1 Environmental Impact Statement for the Chicago, IL, to Detroit-Pontiac, MI, Regional Passenger Rail System

AGENCY: Federal Railroad Administration (FRA), U.S. Department of Transportation (DOT).

ACTION: Notice of intent to prepare an environmental impact statement (EIS).

SUMMARY: FRA is issuing this notice of intent (Notice) to advise the public that FRA, with the Michigan Department of Transportation (Michigan DOT), will jointly prepare a Tier 1 Environmental Impact Statement (EIS) to evaluate passenger rail service improvements along the Chicago, Illinois to Detroit-Pontiac, Michigan regional passenger rail corridor (the Corridor), in compliance with the National Environmental Policy Act of 1969 (NEPA). Partnering state agencies in the development of the EIS are Illinois and Indiana Departments of Transportation (IDOT and IN DOT).

The objectives of the Tier 1 EIS are to evaluate a reasonable range of alternatives, select a rail corridor, and make decisions regarding future improvements to intercity passenger rail service provided in the corridor, including increased train frequency, reduced trip time, and improved on-time performance. Alternatives under consideration will include a no-action (no-build) alternative, as well as multiple build alternatives between Chicago, Illinois and Porter, Indiana, near Battle Creek, Michigan, and in the Detroit, Michigan region. The build alternatives may include infrastructure improvements to the existing rail corridor, the development of a new rail corridor, or a combination of both.

FRA is issuing this Notice to solicit public and agency input in the development of the scope of the EIS and to advise the public that FRA and Michigan DOT will conduct outreach activities for the preparation of the EIS. To ensure that all significant issues are identified and considered, all interested parties are invited to comment on the proposed scope of the environmental review. Comments on the scope of the EIS, including the proposed Project's purpose and need, alternatives to be considered, the impacts to be evaluated, and the methodologies to be used in the evaluation are encouraged.

DATES: Written comment on the scope of the Tier 1 EIS should be provided to Michigan DOT by October 15, 2012. A series of four (4) scoping meetings on September 12, 13, 26, and 27, 2012 will be hosted by Michigan DOT along the Corridor at the times and locations identified in the ADDRESSES section below. In addition, for those who cannot make these meetings, Michigan DOT will host an online, self-directed public scoping meeting. The online public scoping meeting will be available following the publication of this Notice at www.GreatLakesRail.org until October 15, 2012.

ADDRESSES: Comments may also be mailed or emailed until October 15, 2012 to Mr. Mohammed Alghurabi, Project Manager, Michigan DOT, 425 West Ottawa Street, P.O. Box 30050, Lansing, MI 48909 and email: alghurabim@michigan.gov. If a member of the public wishes to participate in the scoping process and cannot attend one of the in-person scoping meetings, and does not have access to the Internet, they can request an informational scoping package and comment form by contacting Mr. Mohammed Alghurabi at the above address, or directly at (517) 373-7674 and toll free at (877) 351-0853.

Scoping meetings will be held on: Wednesday, September 12, 4 to 7 p.m. at Chicago Union Station in the Union Gallery Room (off the Great Hall), 500 West Jackson Boulevard, Chicago, Illinois; Thursday, September 13, 4 to 7 p.m. at the Michigan City-City Hall, 100 East Michigan Boulevard, Michigan City, Indiana; Wednesday, September 26, 4 to 7 p.m. at the Doubletree Hotel, 5801 Southfield Expressway, Dearborn, Michigan; and Thursday, September 27, 4 to 7 p.m. at the Radisson Hotel, 100 West Michigan Avenue, Kalamazoo, Michigan (parking validation will be available for attendees parking in the structure across the street from the Radisson Hotel).

With advanced notice of seven (7) days, Michigan DOT can make additional accommodations for persons with disabilities, and/or limited English speaking ability, and persons needing auxiliary aids or services of interpreters, signers, readers, or large print. Please contact Mr. Bob Parsons, Michigan DOT Planning directly at (517) 373-9534 and toll free at (877) 351-0853 to request accommodations.

FOR FURTHER INFORMATION CONTACT: Ms. Andrea Martin, Environmental Protection Specialist, FRA, 1200 New Jersey Avenue SE., (Mail Stop 20), Washington, DC 20590 at (202) 493-6201, email: andrea.martin@dot.gov; or Mr. Mohammed Alghurabi, Project Manager, Michigan DOT, 425 West Ottawa Street, P.O. Box 30050, Lansing, MI 48909 at (517) 373-7674 and toll free at (877) 351-0853, email: alghurabim@michigan.gov.

Information and documents regarding the Tier 1 EIS and environmental process will be made available for the duration of the environmental process at www.GreatLakesRail.org.

SUPPLEMENTARY INFORMATION: The Chicago to Detroit-Pontiac Passenger Rail Corridor Program EIS is being developed to be consistent with the Midwest Regional Rail Initiative (MWRRI), a cooperative, multi-agency effort that began in 1996 and originally involved nine Midwest states (Illinois, Indiana, Iowa, Michigan, Minnesota, Missouri, Nebraska, Ohio, and Wisconsin), as well as FRA and Amtrak. The MWRRI elements include: use of 3,000 miles of existing rail right of way to connect rural and urban areas; operation of a Chicago hub and spoke passenger rail system; introduction of modern, high-speed trains operating at speeds up to 110 miles per hour (mph); and multi-modal connections to improve system access. The MWRRI envisions developing a passenger rail system that offers business and leisure travelers shorter travel times, additional train frequencies, improved reliability and connections between urban centers and smaller communities. The Tier 1 EIS will evaluate alternatives for the Corridor considering the MWRRI objective “to meet current and future regional travel needs through significant improvements to the level and quality of passenger rail service” (MWRRI Executive Report, September 2004).

Study Area: The Corridor extends 304 miles from Chicago Union Station, in downtown Chicago, Illinois on the west to a terminal in Pontiac, Michigan to the east. The Corridor is a federally designated high speed rail (HSR) corridor with passenger service currently provided by Amtrak's Wolverine line. The Corridor is also one of the heaviest freight railroad routes in the country. The study area identified for the Tier 1 EIS includes portions of Cook County, Illinois; Lake, Porter, and La Porte Counties in Indiana; and Berrien, Cass, Kalamazoo, Calhoun, Jackson, Washtenaw, Wayne, and Oakland Counties in Michigan.

Service Today: Intercity passenger rail service on the Corridor currently includes three daily round trips between Chicago and Detroit-Pontiac (Amtrak Wolverine Service), with an additional daily round trip between Chicago and Battle Creek, Michigan (Amtrak Blue Water Service), which continues beyond the Corridor to Port Huron, Michigan. In 2011, over 503,290 passenger trips were made between Chicago and Detroit using Amtrak's Wolverine line. Currently, passenger trains take approximately 6.5 hours to travel from Chicago's Union Station to Pontiac, Michigan. Existing passenger trains serve stations in Chicago, Illinois; Hammond-Whiting, Indiana; Michigan City, Indiana; and New Buffalo, Niles, Dowagiac, Battle Creek, Kalamazoo, Albion, Jackson, Ann Arbor, Dearborn, Detroit, Royal Oak, Birmingham and Pontiac, Michigan.

When operating on the Corridor, the existing Amtrak Wolverine Service travels over tracks that are owned by several different railroads. In Illinois, the Amtrak Wolverine Service travels over Amtrak-owned track near Union Station and then transitions to track owned by Norfolk Southern until Porter, Indiana. Between Porter, Indiana and Kalamazoo, Michigan, the Amtrak Wolverine Service travels over Amtrak-owned track, which is the only section of track on the Corridor (and outside the Northeast Corridor) that allows trains to travel up to 110 mph (80 of the 97 miles of this Amtrak-owned track allow this maximum speed). In 2011, Michigan DOT entered into a purchase and sale agreement with Norfolk Southern, with financial assistance from FRA, pursuant to which Michigan DOT will acquire the 135 mile Norfolk Southern right-of-way between Kalamazoo and Dearborn, Michigan (with certain limited exceptions). At the time of publication of this Notice, that transaction had not yet closed. Once the transaction has been completed, Michigan DOT will own the right-of-way between Kalamazoo and Dearborn, Michigan (with certain limited exceptions), and Norfolk Southern will operate freight trains over that track pursuant to an easement. From Dearborn to West Detroit Junction, Michigan, the Amtrak Wolverine Service travels primarily on track owned and operated by Conrail Shared Assets Operations, which is jointly owned by CSX Transportation and Norfolk Southern. In addition, Canadian National Railroad owns the Corridor track between West Detroit Junction and Pontiac, Michigan, as well as a two-mile section of track within Battle Creek, Michigan.

Travel Demand: Over the last decade, there has been a demonstrated increase in demand for passenger rail within the Corridor. This growth in passenger rail travel will be diminished if existing issues affecting reliability and comfort are not addressed. Population growth in the Midwest is expected to result in increased congestion on area roadways, especially in the metropolitan areas. Michigan as a whole and Detroit in particular have seen population shrink, which emphasizes the need to implement actions to increase the attractiveness and competitiveness of the area for new business growth and reinvestment. Other pertinent demographics are projected to change that are likely to impact future ridership as well. In the near future, the number of people over age 65 will steadily increase as the baby boom generation ages. This population will begin to seek alternatives to driving automobiles as this age group's ability to safely operate motor vehicles decreases. Passenger rail can provide a needed alternative to driving the long distances between Chicago and Detroit-Pontiac. MWRRI studies report that long-term population, employment and income across the MWRRI states are all projected to grow consistently through year 2040. This growth is expected to result in a 13 percent increase in intercity travel throughout the Midwest between 2010 and 2020 and a further 28 percent increase by 2040.

Trip Time: The current passenger rail service is not competitive with other modes of travel. In 2011, Michigan's Amtrak corridor had the worst on-time performance of the Amtrak system, being on time only 33.1% of the time due to infrastructure and facility deficiencies. Amtrak's shortest existing service between Detroit and Chicago is estimated at 5 hours and 36 minutes. If infrastructure improvements are made to alleviate the congested conditions within the corridor and conditions are improved to allow train speeds to increase to 110 mph along the Corridor, end-to-end Chicago to Detroit-Pontiac travel time could be reduced by approximately 2 hours. This travel time savings would make passenger rail service more likely to succeed in attracting ridership, increasing mobility and providing greater environmental benefits within the Corridor.

Travel Options: The lack of existing capacity and the sharing of track between freight and passenger trains currently create operational problems that restrict both mobility and economic development. These restrictions are demonstrated by the lengthy delays for existing passenger rail service operating within the study area, especially between Chicago, Illinois and Porter, Indiana, near Battle Creek, Michigan, as well as in the Detroit, Michigan region. In addition, infrastructure improvements have been identified by the MWRRI as necessary for enhanced passenger rail service within the Corridor. This includes operational improvements at Chicago Union Station and upgraded track and signaling between Kalamazoo and Detroit-Pontiac. Station facilities along the Corridor are also not ideal for providing easy access to passenger rail. A good indicator of the track condition is demonstrated by the issuance of a number of slow orders by Norfolk Southern including those most recently issued in March 2012. These slow orders are issued to decrease the maximum speed on sections of track where there are safety concerns. This affects passenger rail service performance. The latest slow order decreased speeds to 25-30 mph in the affected sections of track between Kalamazoo and Detroit.

Infrastructure investment needed to increase train speed will also allow an increase in the frequency of service. Enhanced capacity of Corridor infrastructure would make the service more reliable and more likely to succeed in attracting ridership, increasing mobility and enhancing transit oriented economic development opportunities near proposed stations. Improved intercity passenger rail service in the Corridor would provide a reliable alternative travel mode to avoid increasingly congested Midwest highways and airports and substantial travel delays resulting from existing conditions, including peak hour highway delays, security, and related delays associated with air travel, and adverse weather conditions. The need to reduce highway congestion and delays at airports, and to ease the transportation-related effects of further population growth over the long term, is becoming increasingly imperative within the Corridor.

Environmental Review Process: FRA and Michigan DOT will use a tiered process, as provided for in 40 CFR 1508.28, in the completion of the environmental review of the Chicago to Detroit-Pontiac Passenger Rail Corridor Program. Tiering is a staged environmental review process applied to environmental reviews for complex projects. This process will address broad corridor-level issues and alternatives. Subsequent phases or tiers will analyze, at a greater level of detail, narrower site-specific proposals based on the decisions made in the Tier 1 EIS.

Tier 1: The Tier 1 EIS and any subsequent environmental documents will be developed in accordance with Council on Environmental Quality (CEQ) regulations (40 CFR part 1500 et seq.) implementing NEPA and FRA's Procedures for Considering Environmental Impacts (64 FR 28545; May 26, 1999). The Tier 1 assessment will result in an EIS with the appropriate level of detail for corridor-level decisions and will address broad overall issues of concern, including but not limited to:

• Confirming the purpose and need for the proposed action.

• Confirming the study area appropriate to assess reasonable alternatives.

• Identifying a comprehensive set of goals and objectives for the corridor in conjunction with Program stakeholders. These goals and objectives will be crafted to allow comprehensive evaluation of all aspects of the Corridor necessary to achieve the goals, including train operations, vehicles, and infrastructure.

• Identifying the range of reasonable alternatives to be considered, consistent with the current and planned use of the corridor and the existing services within and adjacent to the study area, as well as considering a no-action (no-build) alternative.

• Developing alternative evaluation criteria to identify alternatives that meet the purpose and need of the proposed action and those that do not.

• Identifying the general alignment(s) of the reasonable build alternatives.

• Identifying general right-of-way requirements for the reasonable build alternatives.

• Identifying, at a corridor planning level, the infrastructure and equipment investment requirements for the reasonable build alternatives.

• Including the consideration of the no-build alternative which will be studied as the baseline for comparison with the build alternatives. The no-build alternative represents other transportation modes such as auto, air travel, intercity bus, and existing rail and the physical characteristics and capacities as they exist at the time of the Tier 1 EIS, with planned and funded improvements that will be in place at the time the Project becomes operational.

• Evaluating and describing, at a corridor planning level, the potential environmental consequences (benefits and impacts to the built and natural environment) associated with the reasonable alternative alignments and proposed changes in passenger rail train frequency, speed, and on-time performance.

• Establishing the timing and sequencing of independent actions to maintain a state of good repair and to implement the proposed action.

• Selecting a corridor route alignment for further study at Tier 2.

• Addressing subsequent component actions for Tier 2 NEPA documentation as described below.

Tier 2: The second tier assessment(s) will address component projects to be implemented within the general corridor identified in the Tier 1 EIS, and will incorporate by reference the data and evaluations included in the Tier 1 EIS. Subsequent evaluations will concentrate on the issues specific to the component of the selected alternative identified in the Tier 1 EIS, identify the site-specific alternatives that meet the purpose and need for each component project, and analyze the specific environmental consequences and measures necessary to mitigate environmental impacts at a site-specific level of detail.

Scoping and Public Involvement: FRA encourages broad participation in the EIS process during scoping and subsequent review of the resulting environmental documents. FRA and Michigan DOT are inviting comments and suggestions regarding the scope of the Tier 1 EIS from all interested parties, to ensure that all issues are addressed related to this proposal and that any significant impacts are identified. Comments or questions concerning the proposed Program and/or the Tier 1 EIS should be directed to Mr. Mohammed Alghurabi, Michigan DOT at the above address. Letters that include this Notice and related study area will be sent to the appropriate Federal, State and local agencies, Native American tribes and to private organizations who might have previously expressed or who are known to have an interest in this proposal.

Michigan DOT will lead the outreach activities, beginning with the four (4) scoping meetings and the online scoping meeting described above. Public involvement initiatives, including public meetings, newsletters, and outreach will be held throughout the course of this study. Opportunities for public participation will be announced through mailings, notices, advertisements, press releases and at www.GreatLakesRail.org.

Corey Hill,
Director, Rail Project Development and Delivery, Federal Railroad Administration.

[FR Doc. 2012-21587 Filed 8-30-12; 8:45 am]

BILLING CODE 4910-06-P